ENVIRONMENTAL PROTECTION AGENCY

40 CFR Part 52

[PA134-138-4193a; FRL-7391-6]

Approval and Promulgation of Air Quality Implementation Plans; Pennsylvania; Revisions to Allegheny County Articles XX and XXI

AGENCY: Environmental Protection Agency (EPA).

ACTION: Direct final rule.

SUMMARY: EPA is taking direct final action to approve revisions to the Allegheny County portion of the Pennsylvania State Implementation Plan (SIP). EPA is approving a recodification of Allegheny County's air pollution control regulations, from Article XX to Article XXI. EPA is also approving revisions of Allegheny County's Article XXI regulations pertaining to general administrative provisions, emissions standards, emergency episode plans, test methods, and the permitting provisions for new and modified sources. At the same time, EPA is approving definitions associated with the Article XXI provisions. In addition, EPA is removing from the SIP outdated and outmoded Article XX provisions which are no longer codified in Article XXI. EPA is approving these revisions in accordance with the requirements of the Clean Air Act.

DATES: This rule is effective on January 13, 2003 without further notice, unless EPA receives adverse written comment by December 16, 2002. If EPA receives such comments, it will publish a timely withdrawal of the direct final rule in the Federal Register and inform the public that the rule will not take effect.

ADDRESSES: Written comments should be mailed to Harold A. Frankford, Office of Air Programs, Mailcode 3AP20, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; Air and Radiation Docket and Information Center, U.S. Environmental Protection Agency, 1301 Constitution Avenue, NW., Room B108, Washington, DC 20460; Allegheny County Health Department, Bureau of Environmental Quality, Division of Air Quality, 301 39th Street, Pittsburgh, Pennsylvania 15201; and the Pennsylvania Department of Environmental Protection, Bureau of Air Quality, P.O. Box 8468, 400 Market Street, Harrisburg, Pennsylvania 17105.

FOR FURTHER INFORMATION CONTACT: Harold A. Frankford, (215) 814-2108, or by e-mail at frankford.harold@epa.gov. Please note that while questions may be posed via telephone and e-mail, formal comments must be submitted in writing, as indicated in the ADDRESSES section of this document.

SUPPLEMENTARY INFORMATION:

I. Background

On October 30, 1998, the Commonwealth of Pennsylvania submitted a formal revision to its State Implementation Plan (SIP). The SIP revision consists of the following:

1. A recodification of the air pollution control regulations for the Allegheny County Health Department (ACHD) from Article XX to Article XXI. These regulations pertain to general administrative provisions, emissions standards, emergency episode plans, test methods, and the permitting provisions for new and modified sources.

2. New and revised general or administrative Provisions.

3. Revised provisions governing reporting, testing, and monitoring.

4. New and revised Permit provisions for new and modified sources.

5. Revised provisions governing control of particulate matter (PM).

6. Revised provisions governing control of sulfur dioxides (SO2).

7. New and revised provisions governing control of Volatile Organic Compounds (VOC).

8. New and revised provisions governing enforcement of the Article XXI requirements.

The recodification consists of moving the SIP-approved air pollution control regulations from Article XX to Article XXI. Article XXI rules initially became effective on January 1, 1994. On June 12, 1996 (61 FR 29664), EPA initially approved the structure of Article XXI as well as some definitions and regulations as part of the Allegheny County portion of the Pennsylvania SIP, and incorporated this article by the reference into the SIP at § 52.2020(c)(92).

The comprehensive restructuring of ACHD's air pollution control regulations from Article XX to Article XXI became effective October 20, 1995. Pennsylvania provided documentation showing that ACHD held public hearings on all of the above-described revisions on September 6, 1995, in accordance with 40 CFR 51.102.

II. Summary of SIP Revision

The Article XXI provisions which Pennsylvania submitted on behalf of Allegheny County in this action are summarized below. Many of these revisions consist of renumbering changes, or administrative changes, associated with the reorganization of Allegheny County's air pollution control regulations from Article XX to Article XXI. This Article also contains air pollution control regulations which historically have not been included in the Allegheny County SIP because they pertain to provisions not related to the control of the criteria pollutants regulated under the SIP. The Article XXI provisions being reviewed in this SIP revision action and the current SIP citations found in Article XX are summarized as follows:

Article XXI Citation | Title/Subject | Article XX or Article XXI SIP Citation
PART A | General | Chapter I
2101.01 | Short Titles | 2101.1
2101.02a; c.1. through c.4; c.6 through c.9 | Declaration of Policy and Purpose | 102
2101.02.c.5 |  | 802
2101.03 | Effective Date and Repealer | 2101.3
2101.04 | Existing Orders | 110
2101.06 | Construction and Interpretation | 103
2101.07 | Administration and Organization | 104
2101.07.b. | Administration and Organization—Amendments | 104.B.
2101.07.c | Administration and Organization—Air Pollution Control Advisory Committee | 104.C
2101.07.d. | Administration and Organization—Right to Information | 104.D.
2101.10 | Ambient Air Quality Standards | 109
2101.11 | Prohibition of Air Pollution | 105, 201.D.
2101.12 | Interstate Air Pollution | 106
2101.13 | Nuisances | 107
2101.14 | Circumvention | 108
2101.20 | Definitions | 101, 202.C, 701,801
PART B | Permits Generally | Chapter VIII
2102.01 | Certification | None
2102.02 | Applicability | 803
2102.03 | Permits Generally | 804
2102.04 | Installation Permits | 805
2102.05 | Installation Permits for New and Modified Sources | 806
2102.06 | Major Sources Locating In or Impacting a Nonattainment Area | 807
2102.08 | Emissions Offset Registration | 808
2102.10 | Installation Permit Application and Administration Fees | 812
PART C | Operating Permits | None
Subpart 1 | Operating Permits (All major and Minor Permits) | None
2103.10.a., b. | Applicability, Prohibitions, Records | None
Subpart 2 | Additional Requirements for Major Permits | None
2103.20.b.4 | Applicability, Prohibitions, Records | None
PART D | Pollutant Emission Standards | Chapter IV
2104.01 | Visible Emissions | 401
2104.02 | Particulate Mass Emissions | 2401.6
2104.03 | Sulfur Oxide Emissions | 403
2104.05 | Materials Handling | 405
2104.06 | Violations | 406
2104.07 | Stack Heights | 407
PART E | Source Emission and Operating Standards | Chapter V
2105.01 | Equivalent Compliance Techniques | 501
2105.02 | Other Requirements Not Affected | 502
2105.03 | Operation and Maintenance | 503
2105.04 | Temporary Shutdown of Incineration Equipment | 504
Subpart 1 | VOC Sources | None
2105.10 | Surface Coating Processes | 505
2105.11 | Graphic Arts Systems | 531
2105.12 | VOC Storage Tanks | 507
2105.13 | Gasoline Loading Facilities | 508
2105.14 | Gasoline Dispensing Facilities | None
2105.15 | Degreasing Operations | 509
2105.16 | Cutback Asphalt Paving | 510
2105.17 | Ethylene Production Processes | 511
2105.19a.-c., e. | Synthetic Organic Chemicals & Polymer Manufacturing-Fugitive Sources | 534.A.-C., E
2105.19d. |  | None
Subpart 2 | Slag, Coke, and Miscellaneous Sulfur Sources | None
2105.20 | Slag Quenching | 519
2105.21 | Coke Ovens and Coke Oven Gas | 2105.21
2105.22 | Miscellaneous Sulfur Emitting Processes | 529
Subpart 3 | Incinerators | None
2105.30.a.-e., g. | Incinerators | 517
Subpart 4 | Miscellaneous Fugitive Sources | None
2105.40 | Permit Source Premises | 521
2105.41 | Non-Permit Premises | 521.1
2105.42 | Parking Lots & Roadways | 522
2105.43 | Permit Source Transport | 523
2105.44 | Non-permit Transport | 523.1
2105.45 | Construction and Land Clearing | 524
2105.46 | Mining | 525
2105.47 | Demolition | 526
2105.48 | Areas Subject to Sections 2105.40 Through 2105.47 | 527
2105.49.a&b | Fugitive Emissions | 2105.49.a-e.
Subpart 5 | Open Burning and Abrasive Blasting Sources | None
2105.50 | Open Burning | 516 (as amended 9/6/83)
Subpart 7 | Miscellaneous VOC Sources | None
2105.70 | Petroleum Refineries | None
2105.71 | Pharmaceutical Products | None
2105.72 | Manufacturer of Pneumatic Rubber Tires | None
PART F | Air Pollution Episodes | Chapter VII
2106.01 | Air Pollution Episode System | 702
2106.02 | Air Pollution Source Curtailment Plans | 703
2106.03 | Episode Criteria | 704
2106.04 | Episode Actions | 705
PART G | Methods | Chapter VI
2107.01 | General | 2107.1
2107.02 | Particulate Matter | 2701.2
2107.03 | Sulfur Oxides | 603
2107.04 | Volatile Organic Compounds | 605
2107.05 | Nitrogen Oxides | 611
2107.06 | Incinerator Temperatures | 604
2107.07 | Coke Oven Emissions | 607
2107.08 | Coke Oven Gas | 608
2107.10 | Sulfur Content of Coke | 612
2107.11 | Visible Emissions | 606
2107.20 | Ambient Measurements | 613
PART H | Reporting, Testing & Monitoring | Chapter II
2108.01 | Reports Required | 202
2108.01.a. | Termination of Operations | 202.A
2108.01.b | Shutdown of Control Equipment | 202.B
2108.01.c | Breakdowns | 202.C
2108.01.d. | Cold Start | 202.D
2108.01.e | Emissions Inventory Statements | 202.E
2108.01.f | Orders | 202.F
2108.01.g. | Violations | 202.G
2108.02 | Emissions Testing | 203
2108.03 | Continuous Emissions Monitoring | 204
2108.04 | Ambient Monitoring | 205
PART I | Enforcement | Chapter II Chapter III
2109.01 | Inspections | 201
2109.02 | Remedies | 305
2109.03 | Enforcement Orders | 301
2109.04 | Orders Establishing an Additional or more Restrictive Standard | 302
2109.05 | Emergency Orders | 303
2109.06 | Civil Penalty Proceedings | 306
2109.10 | Appeals | None
2109.20 | General Conformity | None

In addition, Pennsylvania has requested EPA to remove from the Allegheny County SIP certain Article XX provisions which are not being incorporated into Article XXI. Allegheny County has removed these provisions because they are outdated, outmoded, and remove references to sources which are permanently shut down. These provisions are:

Article XX Regulation | Title or Description | Reason for Removal
101 | Definitions of: Commissioners, Committee, Equivalent Opacity, Facility, Rendering, Ringelmann Scale, and Soiling Index | Definitions are no longer found in Article XXI provisions being incorporated into the SIP.
109 | Ambient standard for hydrocarbons | Hydrocarbons are no longer a national ambient air quality standard (NAAQS)
304 | Delayed Compliance Orders | ACHD declares this provision to be moot (see section 512 below)
306.E. | Air Pollution Hearing Board | All references to the Hearing Board been removed, as the Board no longer exists.
512 | Compliance Schedules | ACHD declares this provision to be moot, as all compliance dates have passed.
902 | Shenango Incorporated—Blast Furnace | ACHD has informed EPA that this source is permanently shut down, and is not carried by the current emissions inventory.
903 | USX Corp.—Carrie Furnaces & Boilers #3&4; various other SO-x sources | ACHD has informed EPA that this source no longer exists, and is not carried by the current emissions inventory

III. Evaluation of SIP Revision

In addition to the recodification of Allegheny County's air pollution control regulations from Article XX to Article XXI, and the removal of outdated and outmoded Article XX regualtions, Pennsylvania's October 30, 1998 SIP revision also contains several substantive changes to the new Article XXI regulations:

1. They adopt regulations governing source categories of VOC emissions which are consistent with the emission limits and the scope of sources subject to the requirements of the SIP-approved Pennsylvania Department of Environmental Protection (PADEP) rules (Air Resources, Chapter 129).

2. They update the applicable new source review and permitting provisions.

3. They add new provisions governing general Federal conformity procedures.

4. They update the applicable test methods and air pollution episode provisions.

5. They update the applicable general enforcement provisions, and remove compliance schedules whose final compliance dates have passed.

EPA has evaluated the revisions to Article XXI submitted by Pennsylvania on behalf of ACHD, and has concluded that they are consistent with the current Pennsylvania SIP requirements. EPA has also determined that the Article XXI provisions conform with the applicable Federal statutory and regulatory requirements, strengthen Allegheny County's enforcement procedures, and will not adversely impact ambient air quality levels. Furthermore, EPA has determined that the removal of the Article XX provisions described in this action will not adversely impact ambient air quality levels or Federal enforceability. EPA's evaluation is summarized as follows:

Ozone

Allegheny County has added several Article XXI regulations governing source categories which are currently controlled under the comparable SIP-approved VOC regulations found in Chapter 129 of the PADEP air pollution control regulations. These categories are wood cabinet and furniture coating, gasoline dispensing facilities (Stage II vapor recovery), petroleum refineries, pharmaceutical products, and manufacture of pneumatic rubber tires. EPA has reviewed the Article XXI VOC regulations, and has concluded that they are consistent with the requirements in terms of emissions limits and scope of sources subject to the comparable Chapter 129 rules. Allegheny County has also amended the regulation applicable to synthetic organic chemical and polymer manufacturing—fugitive sources which provides that any alternative control plan must first be approved by EPA before it becomes County-enforceable. Allegheny County has also removed the ambient air quality standard for hydrocarbons, which EPA determines to be consistent with the removal of the national ambient air quality standard (NAAQS) for hydrocarbons from 40 CFR part 50.

Particulate Matter

The PM control measures included in this action update the emergency episode plans, and make negligible changes to the overall control strategy by adding open land to the list of premises subject to 2105.40. These revisions also remove references to Shenango, Incorporated—Neville Island's Blast Furnaces A and B. Allegheny County states in this SIP revision submittal that these sources no longer exist, and are not carried by the current emissions inventory.

Sulfur Dioxide

The SO2 control measures included in this action update the emergency episode plans. The revisions also remove references to sources which have permanently shut down, such as the open hearth furnaces and Carrie Furnace Boilers #3 and #4 at the United States Steel Corporation's Homestead Works. This revision also removes the coke oven gas requirement which had applied to the Shenango, Incorporated—Neville Island's Coke Oven Battery #4 Facility. Allegheny County states in this SIP revision submittal that these sources no longer exist, and are not carried by the current emissions inventory.

Lead

EPA is approving the addition of Allegheny County's ambient air quality standard for lead (1.5 micrograms per cubic meter, averaged over a 3-month period) to the chart found in Section 2101.09. EPA has determined that this standard is consistent with the NAAQS for lead found in 40 CFR 50.12.

General Administration and Enforcement

With regard to Allegheny County's general administration and enforcement provisions, this SIP revision consists of removing outdated and outmoded provisions, recodifying the existing SIP-approved provisions from Article XX to Article XXI, reorganizing these provisions within the structure of Article XXI, and updating the test methods and compliance determination provisions. In addition, Allegheny County's Article XXI rules strengthen the provisions related to confidentiality of emissions data, notification of breakdowns, and permit appeals.

New Source Review and Permitting

Allegheny County has recodified its permitting requirements from Article XX, Chapter VIII to the following Parts in Article XXI: Part B (Permits Generally), Part C (Operating Permits), and Part A, Section 2101.20 (Definitions). In addition, Allegheny County has submitted many new and revised permitting and new source review provisions to the aforementioned Article XXI provisions when compared to the SIP-approved Article XX, Chapter VIII provisions. EPA has determined that Allegheny County has adopted these revisions in order to both conform with the revised new source review and permitting requirements of the 1990 Clean Air Act, as amended and conform with similar revised requirements adopted by the PADEP and approved by EPA as revisions to the Pennsylvania SIP.

General Conformity

Allegheny County has added Regulation 2109.20 (General Federal Conformity) to Article XXI. This new regulation, which applies to departments, agencies or instrumentalities of the Federal government, as well as related activities supported, financially assisted, licensed, permitted, or approved by the Federal government, incorporates by reference both the regulations promulgated by EPA in 40 CFR part 51, subpart W and the Commonwealth of Pennsylvania's regulations set forth at 25 Pa. Code Chapter 127.

IV. Final Action

Based on EPA's evaluation, EPA is approving the October 30, 1998 revisions to Allegheny County Articles XX and XXI described in this action as a revision to the Pennsylvania SIP. The incorporation of Article XXI into the SIP allow the citations of Federally enforceable SIP regulations to be consistent with the current Allegheny County regulations. At the same time, EPA is approving the removal from the Allegheny County SIP of Article XX, Regulations 304, 306.B., 512, 902, 903, and the definitions of Regulation 101 listed earlier in this document.

EPA is publishing this rule without prior proposal because the Agency views this as a noncontroversial amendment and anticipates no adverse comment. However, in the “Proposed Rules” section of today's Federal Register, EPA is publishing a separate document that will serve as the proposal to approve the SIP revision if adverse comments are filed. This rule will be effective on January 13, 2003 without further notice unless EPA receives adverse comment by December 16, 2002. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

V. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by January 13, 2003. Filing a petition for reconsideration by the Administrator of this final rule does not affect the finality of this rule for the purposes of judicial review nor does it extend the time within which a petition for judicial review may be filed, and shall not postpone the effectiveness of such rule or action. This action regarding revisions to Allegheny County Articles XX and XXI may not be challenged later in proceedings to enforce its requirements. (See section 307(b)(2).)

List of Subjects in 40 CFR Part 52

Environmental protection, Air pollution control, Carbon monoxide, Incorporation by reference, Intergovernmental relations, Nitrogen dioxide, Ozone, Particulate matter, Reporting and recordkeeping requirements, Sulfur oxides, Volatile organic compounds.

Dated: September 27, 2002.
Donald S. Welsh,
Regional Administrator, Region III.

40 CFR part 52 is amended as follows:

PART 52—[AMENDED]

1. The authority citation for part 52 continues to read as follows:

Authority: 42 U.S.C. 7401 et seq.

Subpart NN—Pennsylvania

2. Section 52.2020 is amended by adding paragraph (c)(192) to read as follows:

§ 52.2020 Identification of plan.

* * * * *

(c) * * *

(192) Revisions to the Allegheny County Health Department Regulations, Articles XX and XXI, submitted on October 30, 1998 by the Pennsylvania Department Environmental Resources:

(i) Incorporation by reference.

(A) Letter of October 30, 1998 from the Pennsylvania Department of Environmental Protection transmitting a recodification from Article XX to Article XXI of the Rules and Regulations for Air Pollution Control in Allegheny County, as well as substantive revisions to the Article XXI regulations.

(B) The following revisions to Article XXI (formerly Article XX) of the Rules and Regulations for Air Pollution Control in Allegheny County, effective October 20, 1995:

(1) Part A (General), Sections 2101.01, 2101.02 (except paragraph .02.b.), 2101.03, 2101.04, 2101.06, 2101.07 (except paragraphs .07.c.2 and .07.c.8), 2101.10 (1-year and 24-hour standards for PM10 and sulfur oxides, 1-year standard for nitrogen dioxide, 1-hour and 8-hour standards for carbon monoxide, and 1-hour standard for ozone only) and 2101.11 through 2101.14 inclusive.

(2) Part A, Section 2101.20 (Definitions) (Formerly Article XX, Sections 101, 202.C, 701 and 801).

(i) Citation change only: Air curtain destructor, Air dried coating, Air pollution, Air Pollution Control Act, Air pollution control equipment, Alert Stage, Ambient air, Article XI, Automobile, Board of Health, Bottom filling, Bulk gasoline plant, Bulk gasoline terminal, Can coating, Clean Air Act, Clear coat, Clearing and grubbing wastes, Coating, Coil coating, Cold cleaning degreaser, Commonwealth, Conveyorized degreaser, County, Cutback asphalt, Domestic heating plant, Domestic refuse-burning equipment, Drum, Dry cleaning facility, Dust, Emission tests, Emissions, Extreme environmental conditions, Extreme performance coatings, Fabric coating, Flexographic printing, Freeboard ratio, Fuel, Fuel-burning or combustion equipment, Gasoline, Gasoline tank truck, Hard slag ladle pit, Hopper car, Incinerator, Increments of Progress, Install, Large appliances, Lease custody transfer, Light duty trucks, Magnet wire coating, Materials handling, Metal furniture coating, Miscellaneous metal parts and products, National Ambient Air Quality Standard, Net load rating, Nontraditional source, Opacity, Open air, Open burning, Open top vapor degreaser, Pail, Paper coating, Part per million, Particulate matter, Paving operation, Person, PM-10, Potential uncontrolled emission rate, Prime coat, Process, Process equipment, Process fugitive emissions, Publication rotogravure printing, Rated capacity, Refuse, Roll printing, Rotogravure printing, SIP, Single coat, Small gasoline storage tank, Solvent, Standard conditions, State Implementation Plan, Steel production, Surface coating process, Tank car, Topcoat, Trade waste, Transfer efficiency, Type “O” waste, Vapor balance system, Vapor disposal system, Vinyl coating, Visible emissions, Wastewater separator, and Waxy heavy-pour crude oil.

(ii) Revised definitions resulting from the format change: Advisory Committee, Air Pollution Episode, Ambient air quality standards, Article, Attainment area, Best Available Control Technology, Breakdown, Board of Commissioners, County-Wide Air Pollution Watch, Flue, Forecast, Localized air pollution watch, Localized incident level, Lowest Achievable Emission Rate, Net air quality benefit, Nonattainment area, Reasonably Available Control Technology, Unclassifiable area, and Volatile organic compound.

(iii) Revised definitions with substantive wording changes: Air contaminant, Allowable Emissions, Authorized representative, Bureau, Capture efficiency, DEP (Formerly DER), Department, Deputy Director, Director, Emission limitation, EPA, Fugitive emissions, Modification, Major modification, Major Source (paragraphs a., b., c., f. and g. only), New Source, Reasonable further progress, Replacement Source, Secondary Emissions, Significant Air Quality Impact, and Source.

(3) Part B (Permits Generally), Sections 2102.02, 2102.03.a through h. 2102.04.a through g., 2102.05, 2102.06.a through .e, 2102.08., and 2102.10.

(4) Part D (Pollutant Emission Standards), Sections 2104.01, 2401.02.a.1 through .02.a.3, 2104.02.b. through .02.d., 2104.02.f., 2104.02.i, 2104.03, and 2104.05 through 2401.07.

(5) Part E (Source Emission and Operating Standards), Sections 2105.01 through 2105.04, 2105.10.a through c., 2105.10.e.1 through 10.e.10, 2105.11 through 2105.13, 2105.15 through 2105.17, 2105.19.a. through c. and .19.e., 2105.20, 2105.22, 2105.30 (except paragraph .30.f), 2105.40 through 2105.48, 2105.49.a, 2105.49.b (formerly 2105.49.e). and 2105.50 (except paragraph .50.d).

(6) Part F (Air Pollution Episodes), Sections 2106.01 through 2106.04.

(7) Part G (Methods), Sections 2107.01 through 2107.03, 2107.04 (except paragraph .04.h), 2107.05 through 2107.08, 2107.10, 2107.11, and 2107.20.c., g. through j., m., and n.

(8) Part H (Reporting, Testing and Monitoring), Sections 2108.01 (except paragraphs .01.e.1.A and B.), 2108.02.a. through f., 2108.03.a. and c. through e., and 2108.04.

(9) Part I (Enforcement), Sections 2109.01, 2109.02, (except paragraph .02.a.7), 2109.03.a. (introductory paragraph only), 2109.03.b. through f., 2109.04, 2109.05 and 2109.06.a.1, .06.b, and .06.c.

(C) Addition of the following Article XXI regulations, effective October 20, 1995:

(1) Part A, Section 2101.10 (3-month ambient standard for lead).

(2) Part A, Section 2101.20, definitions of Administrator, Adverse environmental effect, Affected source, Affected states, Affected unit, Applicable requirement, At the source, BACT (abbreviation only), Cartridge filter, CFR, CO, Common control, Containers and conveyors of solvent, CTG, Designated representative, Draft permit, Emergency, Emissions allowable under the permit, Emissions unit, Existing source, Federal action, Final permit, Fugitive dust emissions, LAER (abbreviation only), Large equipment, Major source applicable requirement (except paragraphs c., d., e., f., g., and j.), Minor operating permit modification, Minor source, NAAQS (abbreviation only), NOX, Operator, Owner or operator, Part C subpart 2 permit, Part C subpart 2 source, Perceptible leaks, Permit modification, Permit revision, Permitting authority, Person subject to the Clean Air Act, Petroleum solvents, Pharmaceutical tablet coating, Potential to emit, PPM (abbreviation only), Proposed permit, RACT (abbreviation only), Regulated air pollutant (paragraphs a. and b. only), Renewal, Represent the public interest, Responsible official, Significant permit modification, Significant portion of income, Small source, Small equipment, and Solvent recovery dryer.

(3) Part B, Sections 2102.01, 2102.03.i through .03.k, 2102.04.h through .04.j, and 2102.06.f.

(4) Part C (Operating Permits), 2103.10.a and .10.b, and 2103.20.b.4.

(5) Part E, Sections 2105.10.d and 10.e.11, 2105.14, 2105.19.d, 2105.70, 2105.71, and 2105.72.

(6) Part H, Sections 2108.02.g. and 2108.03.b.

(7) Part I, Sections 2109.06.a.5, 2109.10 and 2109.20.

(D) Removal of the following Article XX regulations, effective October 20, 1995:

(1) Sections 109 (ambient standard for hydrocarbons), 304, 306.E, 512, 902, and 903.

(2) Section 101, Definitions of Air Pollution Hearing Board, Commissioners, Committee, Equivalent Opacity, Facility, Rendering, Ringelmann Scale, and Soiling Index.

(E) Removal of Article XXI, Sections 2105.21.h.3.B., 2105.49.c, and 2105.49.d.

(ii) Additional Material.—Remainder of the State submittal pertaining to the revisions listed in paragraph (c)(192)(i) of this section.

§ 52.2023 [Removed and Reserved]

3. In § 52.2023, paragraph (c) is removed and reserved.

[FR Doc. 02-28696 Filed 11-13-02; 8:45 am]

BILLING CODE 6560-50-P